DEPARTMENT OF ENERGY

Federal Energy Regulatory Commission

[Project No. 13080-000]

Putnam Green Power, LLC Notice of Application Accepted for Filing and Soliciting Comments, Protests, and Motions To Intervene

February 4, 2008.

Take notice that the following hydroelectric application has been filed with the Commission and is available for public inspection:

a. Type of Application: Preliminary Permit.

b. Project No.: 13080-000.

c. Date filed: November 27, 2007.

d. Applicant: Putnam Green Power, LLC.

e. Name and Location of Project: The proposed Cargill Falls Hydroelectric Project would be located on the Quinebaug River, in the Town of Putnam, Windham County, Connecticut.

f. Filed Pursuant to: Federal Power Act, 16 U.S.C. 791(a)-825(r).

g. Applicant contact: Leanne Parker, CEO, Putnam Green Power, LLC, 58 Pomfret Street, Putnam, CT 06260, (860) 928-1500.

h. FERC Contact: Tom Papsidero, (202) 502-6002.

i. Deadline for filing comments, protests, and motions to intervene: 60 days from the issuance date of this notice.

All documents (original and eight copies) should be filed with: Kimberly D. Bose, Secretary, Federal Energy Regulatory Commission, 888 First Street, NE., Washington, DC 20426. Comments, protests and interventions may be filed electronically via the Internet in lieu of paper; see 18 CFR 385.2001(a)(1)(iii) and the instructions on the Commission's Web site under the “e-Filing” link. The Commission strongly encourages electronic filings. Please include the project number (P-13080-000) on any comments or motions filed.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency.

j. Description of Existing Facilities and Proposed Project: The proposed project would consist of constructing a new powerhouse and appurtenant works at the site of the existing Cargill Falls Dam located at river mile 34 on the Quinebaug River. Flows would be diverted at the intake structure to the new powerhouse and returned to the river approximately 435 feet downstream via a new tailrace channel. The proposed project would consist of the existing dam and intake structure; new fish passage facilities; an existing underground water conduit; a new penstock; a new powerhouse with generating and control equipment; and a new tailrace and switchyard. The project would interconnect to the existing Connecticut Light and Power (CL&P) utility pole number 1192 via a new underground feed approximately 300 feet long. The new feed would be located entirely on property controlled by Putnam Green Power LLC. Transmission would continue off-site via an existing 480-volt overhead transmission line and connect with the existing CL&P Putnam substation located directly across the river from the powerhouse.

The existing dam consists of a concrete gravity overflow spillway section approximately 60-foot-long and 5-foot-high and a gravity concrete gated spillway section approximately 85-foot-long and 6-foot-high, separated by a natural rock outcrop about 70-foot-long. The project impoundment has a normal surface elevation of 253.4 feet above mean sea level (msl) and is approximately 2,000-foot-long, the width of the impoundment varies between 300 and 500 feet. The impoundment area is approximately 13 acres, with an approximate storage capacity of 65 acre feet (at normal pool elevation of 253.4 feet msl).

The existing intake structure is located at the south end of the dam, and consists of four concrete intake gates 3-foot-wide and 5-foot-high which are currently sealed by steel plates, a masonry forebay about 30-foot-long by 30-foot-wide by 10-foot-deep, trash racks, and provisions for a new fish bypass facility. Putnam Green Power would modify the intake structure as required and install headgates to control flows to the powerhouse; repair the existing trashrack as necessary; and install fish passage facilities in consultation with the state and federal resource agencies. The existing underground conduit extends from the intake south under CT Route 44 for approximately 135 feet to the Cargill Mills complex where it bifurcates into two conduits, each leading to abandoned hydro-generating facilities. The underground conduit upstream of the bifurcation would be restored. The conduits downstream of the bifurcation would be replaced with a new single penstock, approximately 135-foot-long.

The new powerhouse would be a concrete structure approximately 48-foot-long and 34-foot-wide. New generating equipment will be installed consisting of a single, vertical axis Kaplan turbine direct connected to a synchronous generator. The turbine would have a hydraulic capacity of approximately 940 cubic feet per second (cfs) and a nominal rating of 2 MW. The powerhouse would also contain auxiliary electrical and mechanical equipment and a fully automated digital control system.

A new concrete tailrace approximately 30-foot-long by 20-foot-wide would return water to the Quinebaug River. A new switchyard would be located adjacent to the power house. The switchyard would include a new generator step-up transformer, switchgear and metering equipment. Interconnection would be via an existing overhead line to the CL&P Putnam substation located directly across the river. The turbine would have a nominal rating of 2 MW at a net head of 28-feet. Average annual energy production is estimated to be approximately 9.2 GWH.

k. Location of Applications: A copy of the application is available for inspection and reproduction at the Commission in the Public Reference Room or may be viewed on the Commission's Web site at http://www.ferc.gov using the “eLibrary” link. Enter the docket number excluding the last three digits in the docket number field to access the document. For assistance, call toll-free 1-866-208-3676 or e-mail FERCOnlineSupport@ferc.gov. For TTY, call (202) 502-8659. A copy is also available for inspection and reproduction at the address in item g above.

l. Individuals desiring to be included on the Commission's mailing list should so indicate by writing to the Secretary of the Commission.

m. Competing Preliminary Permit—Anyone desiring to file a competing application for preliminary permit for a proposed project must submit the competing application itself, or a notice of intent to file such an application, to the Commission on or before the specified comment date for the particular application (see 18 CFR 4.36). Submission of a timely notice of intent allows an interested person to file the competing preliminary permit application no later than 30 days after the specified comment date for the particular application. A competing preliminary permit application must conform with 18 CFR 4.30 and 4.36.

n. Competing Development Application—Any qualified development applicant desiring to file a competing development application must submit to the Commission, on or before a specified comment date for the particular application, either a competing development application or a notice of intent to file such an application. Submission of a timely notice of intent to file a development application allows an interested person to file the competing application no later than 120 days after the specified comment date for the particular application. A competing license application must conform with 18 CFR 4.30 and 4.36.

o. Notice of Intent—A notice of intent must specify the exact name, business address, and telephone number of the prospective applicant, and must include an unequivocal statement of intent to submit, if such an application may be filed, either a preliminary permit application or a development application (specify which type of application). A notice of intent must be served on the applicant(s) named in this public notice.

p. Proposed Scope of Studies under Permit—A preliminary permit, if issued, does not authorize construction. The term of the proposed preliminary permit would be 36 months. The work proposed under the preliminary permit would include economic analysis, preparation of preliminary engineering plans, and a study of environmental impacts. Based on the results of these studies, the Applicant would decide whether to proceed with the preparation of a development application to construct and operate the project.

q. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

r. Filing and Service of Responsive Documents—Any filings must bear in all capital letters the title “COMMENTS”, “NOTICE OF INTENT TO FILE COMPETING APPLICATION”, “COMPETING APPLICATION”, “PROTEST”, or “MOTION TO INTERVENE”, as applicable, and the Project Number of the particular application to which the filing refers. Any of the above-named documents must be filed by providing the original and the number of copies provided by the Commission's regulations to: The Secretary, Federal Energy Regulatory Commission, 888 First Street, NE., Washington, DC 20426. An additional copy must be sent to Director, Division of Hydropower Administration and Compliance, Federal Energy Regulatory Commission, at the above-mentioned address. A copy of any notice of intent, competing application or motion to intervene must also be served upon each representative of the Applicant specified in the particular application.

s. Agency Comments—Federal, state, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. E8-2421 Filed 2-8-08; 8:45 am]

BILLING CODE 6717-01-P